DEPARTMENT OF COMMERCE

National Oceanic and Atmospheric Administration

50 CFR Part 648

[I.D. 042803G]

New England Fishery Management Council; Public Hearings

AGENCY: National Marine Fisheries Service (NMFS), National Oceanic and Atmospheric Administration (NOAA), Commerce.

ACTION: Public hearings; request for comments.

SUMMARY: The New England Fishery Management Council (Council) will hold a series of public hearings to solicit comments on proposals to be included in the Draft Amendment 10 to the Sea Scallop Fishery Management Plan (FMP).

DATES: Written comments on the proposals will be accepted through July 16, 2003. The public hearings will begin May 20, 2003 and end on June 5, 2003. See “Public Hearings” for specific hearing dates.

ADDRESSES: To obtain copies of the public hearing document or to submit comments, contact Paul J. Howard, Executive Director, New England Fishery Management Council, 50 Water Street, Mill 2, Newburyport, MA 01950. Identify correspondence as “Amendment 10 to Sea Scallop FMP.” Hearings will be held in North Carolina, Virginia, New Jersey, Massachusetts, and Maine. Requests for special accommodations should be addressed to the New England Fishery Management Council, 50 Water Street, Mill 2, Newburyport, MA 01950; telephone: (978) 465-0492. For specific locations, see “Public Hearings”.

FOR FURTHER INFORMATION CONTACT: Paul J. Howard, (978) 465-0492.

SUPPLEMENTARY INFORMATION: The Council proposes to take action to amend the Atlantic Sea Scallop FMP and to address the new and revised requirements of the Magnuson-Stevens Fishery Conservation and Management Act, as amended by the Sustainable Fisheries Act of 1996. The Council will consider comments from fishermen, interested parties, and the general public on the proposals and alternatives described in the public hearing document for Amendment 10 to the Atlantic Sea Scallop FMP. Once it has considered public comments, the Council will approve final management measures and prepare a submission package for NMFS. There will be an additional opportunity for written public comments on the proposed rule when it is published in the Federal Register.

Major elements of the proposals in Draft Amendment 10 and a Draft Supplemental Environmental Impact Statement include: (1) rotation area management; (2) revisions to the overfishing definition; (3) controlled access to the Georges Bank closed areas; (4) gear changes to improve scallop yield, minimize bycatch, and potentially reduce habitat impacts; (5) area closures to minimize habitat impacts or avoid unacceptable bycatch; (6) measures to potentially reduce encounters with protected species; (7) new permits and rules for targeting scallops with a general category permit; (8) a new incidental catch scallop permit; (9) measures to improve reporting and data collection; (10) new research procedures to fund and authorize scallop-related research; (11) new procedures or modifications to the framework adjustment process to set annual specifications or to implement area rotation; (12) changes to the fishing year; and (13) additional measures related to area rotation which the Council may consider implementing at a future date. The Council will consider all comments received on these proposals until the end of the comment period on July 16, 2003.

Public Hearings

The dates, times, locations, and telephone numbers of the hearings are as follows:

Tuesday, May 20, 2003, at 7 p.m. - Ramada Inn, 1127 Route 132, Hyannis, MA 02601; telephone:(508) 775-1153; and

Wednesday, May 21, 2003 at 7 p.m. - Tavern on the Harbor, 30 Western Avenue, Gloucester, MA 01930; telephone:(978) 283-4200; and

Tuesday, May 27, 2003 at 7 p.m. - Holiday Inn, 215 High Street, Ellsworth, ME 04505; telephone: (207) 667-9341; and

Thursday, May 29, 2003 at 7 p.m. Holiday Inn Express,

110 Middle Street, Fairhaven, MA; telephone:(508) 997-1281; and

Tuesday, June 3, 2003 at 7 p.m. Comfort Inn North, 539

Absecon Blvd, Absecon, NJ 08201; telephone:(609) 641-7272; and

Wednesday, June 4, 2003 at 7 p.m. - Point Plaza Suites

and Conference Hotel; 950 J Clyde Morris Boulevard; Newport News,

VA 23601; telephone: (757) 599-4460; and

Thursday, June 5, 2003 at 7 p.m. Hampton Inn, 2085 W.

15th Street, Washington, NC 27889; telephone: (252) 940-4556

Special Accommodations

These hearings are physically accessible to people with disabilities. Requests for sign language interpretation or other auxiliary aids should be directed to Paul J. Howard (see ADDRESSES) at least 5 days prior to the meeting dates.

Dated: April 30, 2003.
Richard W. Surdi,
Acting Director, Office of Sustainable Fisheries, National Marine Fisheries Service.

[FR Doc. 03-11085 Filed 5-5-03; 8:45 am]

BILLING CODE 3510-22-S